DEPARTMENT OF ENERGY

Federal Energy Regulatory Commission

[Docket No. RP04-360-008]

Maritimes & Northeast Pipeline L.L.C.; Notice of Report of Refunds

July 21, 2006.

Take notice that on July 19, 2006, Maritimes & Northeast Pipeline, L.L.C. (Maritimes) tendered for filing a refund report in the above captioned proceeding pursuant to sections 154.501 and 154.502 of the Commission's regulations.

Maritimes states that the report documents refunds made to customers in accordance with Section 1.2 of a Stipulation and Agreement filed with the Commission on June 28, 2005 in Docket No. RP04-360, and approved by the Commission's Order issued on May 15, 2006. Maritimes states that it completed the refunds on June 20, 2006.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 1, 2006.

Magalie R. Salas,
Secretary.

[FR Doc. E6-12241 Filed 7-28-06; 8:45 am]

BILLING CODE 6717-01-P